DEPARTMENT OF TRANSPORTATION

Pipeline and Hazardous Materials Safety Administration

[Docket No. PHMSA-2013-0004]

Pipeline Safety: Information Collection Activities, Revision to Gas Distribution Annual Report

AGENCY: Pipeline and Hazardous Materials Safety Administration, DOT.

ACTION: Notice and request for comments.

SUMMARY: On February 13, 2013, in accordance with the Paperwork Reduction Act of 1995, the Pipeline and Hazardous Materials Safety Administration (PHMSA) published a notice in the Federal Register of its intent to revise the gas distribution annual report (PHMSA F7100.1-1) to improve the granularity of the data collected. In addition to making several minor changes to the report, PHMSA will also request a new OMB Control number for this information collection.

PHMSA received two comments in response to that notice. PHMSA is publishing this notice to respond to the comments, provide the public with an additional 30 days to comment on the proposed revisions to the forms and the instructions, and announce that the revised Information Collections will be submitted to the Office of Management and Budget (OMB) for approval.

DATES: Comments on this notice must be received by July 10, 2013 to be assured of consideration.

ADDRESSES: You may submit comments identified by the docket number PHMSA-2013-0004 by any of the following methods:

• Fax: 1-202-395-5806.

• Mail: Office of Information and Regulatory Affairs (OIRA), Records Management Center, Room 10102 NEOB, 725 17th Street NW., Washington, DC 20503, ATTN: Desk Officer for the U.S. Department of Transportation\PHMSA.

• Email: Office of Information and Regulatory Affairs, OMB, at the following email address: OIRA_Submission@omb.eop.gov.

Requests for a copy of the Information Collection should be directed to Angela Dow by telephone at 202-366-1246, by fax at 202-366-4566, by email at Angela.Dow1@dot.gov, or by mail at U.S. Department of Transportation, PHMSA, 1200 New Jersey Avenue SE., PHP-30, Washington, DC 20590-0001.

FOR FURTHER INFORMATION CONTACT: Blaine Keener by telephone at 202-366-0970, by fax at 202-366-4566, by email at blaine.keener@dot.gov.

SUPPLEMENTARY INFORMATION: Section 1320.8(d), Title 5, Code of Federal Regulations requires PHMSA to provide interested members of the public and affected agencies an opportunity to comment on information collection and recordkeeping requests. This notice identifies a revised information collection request that PHMSA will submit to OMB for approval. The information collection is titled: “Annual Report for Gas Distribution Pipeline Operators.”

Summary of Topic Comments/Responses

During the two month response period, PHMSA received two comments from the following stakeholders:

• American Gas Association (AGA)—Trade Association.

• American Public Gas Association (APGA)—Trade Association.

This 30-day notice responds to the comments, which may be found at http://www.regulations.gov, at docket number PHMSA-2013-0004. The docket also contains the form and instructions as amended in response to the comments. In general, the comments made by AGA and APGA were similar in content and summarized below.

1. PHMSA proposed to add Part A, section 6 and require operators to enter information on the “Type of Operator” based on the structure of the reporting company. PHMSA proposed to allow these types of operators—Municipal, Privately Owned, and other (e.g., cooperatives, public utility districts). AGA and APGA had similar comments proposing that options for the operator type be consistent with those on Energy Information Agency Form EIA-176.

Response: PHMSA believes that the request for consistency is appropriate, and has revised Part A, section 7 to incorporate the following operator types: Investor-owned, municipally-owned, privately-owned, cooperative, and other.

2. PHMSA proposed to add a material type in Part B, sections 1, 2, and 3 and require operators to report data about cast iron pipes that have been reconditioned. PHMSA used the term “reconditioned cast iron” in Part B1 and “rehabilitated cast iron” in Part B2 and B3. AGA and APGA had similar comments proposing that the term “reconditioned cast iron” be used consistently in all three sections since that term is defined in the instructions.

Response: PHMSA concurs with the comments, and has revised the form so the term “reconditioned cast iron” is used consistently in the form and instructions.

3. Part C requires operators to identify the cause of leaks and hazardous leaks eliminated or repaired during the calendar year. PHMSA proposed to revise the “Cause of Leak” categories in Part C to align the leak causes in the gas distribution annual report with the incident causes from the gas distribution incident reporting form (PHMSA F 7100.1, Incident Report—Gas Distribution System). AGA and APGA had similar comments proposing that PHMSA adopt more substantive changes to the leak cause definitions to improve clarity and make the definitions more consistent with how incident cause is reported on the gas distribution incident reporting form.

Response: PHMSA concurs with the comments, and has expanded the instructions defining leak causes to be consistent with the gas distribution incident reporting form.

4. Part D requires operators to provide information on “Excavation Damage,” and PHMSA proposed to add new data collection in “Excavation Damage” to include the four causes from Part I of the “Damage Information Reporting Tool (DIRT)—Field Form.” AGA and APGA had similar comments proposing that PHMSA clarify that it is seeking information on the “apparent root cause” of excavation damage and adopt more substantive changes to the instructions for Part D by incorporating the definitions developed by the Common Ground Alliance's DIRT program.

Response: PHMSA concurs with the comments and has revised the form to clarify that PHMSA is seeking information on the “apparent root cause” of excavation damages. We have also revised the instructions to clarify the information to be reported.

5. Part E requires operators to provide information on “Excess Flow Valves” (EFV) installed during the calendar year and the estimated number in the system at the end of the year. AGA and APGA had similar comments proposing that PHMSA clarify language on the form and in the instructions to reduce confusion over the data PHMSA is seeking on “Estimated Number of EFVs in System at End of Year.”

Response: PHMSA concurs with the comments and has revised the form to define that PHMSA is seeking information on the “Estimated Total number of EFVs in the system.” We have also revised the instructions to clarify the data to be reported.

Proposed Information Collection Revisions and Request for Comments

The following information is provided for each revised information collection: (1) Title of the information collection; (2) OMB control number; (3) Type of request; (4) Abstract of the information collection activity; (5) Description of affected public; (6) Estimate of total annual reporting and recordkeeping burden; and (7) Frequency of collection. PHMSA will request a three-year term of approval for each information collection activity. PHMSA is only focusing on the revisions detailed in this notice and will request revisions to the following information collection activities.

Title: Gas Distribution Annual Report.

OMB Control Number: N/A.

Current Expiration Date: N/A.

Type of Request: New.

Abstract: PHMSA is looking to revise the Gas Distribution Annual Report (PHMSA F 7100.1-1) to make several minor changes related to data collection.

Affected Public: Gas distribution pipeline operators.

Annual Reporting and Recordkeeping Burden:

Total Annual Responses: 1,440.

Total Annual Burden Hours: 23,040.

Frequency of Collection: Annually.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on June 4, 2013.
John A. Gale,
Director, Office of Standards and Rulemaking.

[FR Doc. 2013-13629 Filed 6-7-13; 8:45 am]

BILLING CODE 4910-60-P